DEPARTMENT OF AGRICULTURE

Forest Service

Caribou Forest Plan Revision; Caribou-Targhee National Forest

AGENCY: Forest Service, USDA.

ACTION: Extension of the comment period on the Draft Environmental Impact Statement.

SUMMARY: On April 24, 2001 the Notice of Availability of the Draft EIS for the Caribou Forest Plan Revision was published in the Federal Register. Many interested parties have requested that the comment period be extended so they can provide more substantive, researched comments. The Regional Forester has agreed to extend the comment period on the Draft EIS for an additional 61 days.

DATES: Comments on the Draft EIS will be accepted through November 1, 2001.

ADDRESSES: Send correspondence to Forest Planner, Caribou Forest Plan Revision, Caribou-Targhee National Forest, 1405 Hollipark Drive, Idaho Falls, Idaho 83491.

FOR FURTHER INFORMATION CONTACT: Cheryl Probert, Forest Planner or Jerry Reese, Forest Supervisor, Caribou-Targhee National Forest, Telephone: (208) 557-5760.

Dated: September 19, 2001.
Jerry B. Reese,
Forest Supervisor, Caribou-Targhee National Forest, Intermountain Region, USDA Forest Service.

[FR Doc. 01-25190 Filed 10-5-01; 8:45 am]

BILLING CODE 3410-11-M